DEPARTMENT OF ENERGY

Federal Energy Regulatory Commission

Combined Notice of Filings #1

Take notice that the Commission received the following electric rate filings:

Docket Numbers: ER17-694-001.

Applicants: California Independent System Operator Corporation.

Description: Compliance filing: 2017-09-21 Compliance—Transmission Control Agreement Notice of Effective Date to be effective 9/15/2017.

Filed Date: 9/21/17.

Accession Number: 20170921-5095.

Comments Due: 5 p.m. ET 10/12/17.

Docket Numbers: ER17-1639-002.

Applicants: AEP Generation Resources Inc.

Description: Tariff Amendment: AEP GR Stuart Station Unit 1 Reactive Filing RS3 to be effective 10/1/2017.

Filed Date: 9/21/17.

Accession Number: 20170921-5123.

Comments Due: 5 p.m. ET 10/12/17.

Docket Numbers: ER17-1717-002.

Applicants: Dynegy Conesville, LLC.

Description: Tariff Amendment: Response to Second Deficiency Letter to be effective 5/9/2017.

Filed Date: 9/20/17.

Accession Number: 20170920-5175.

Comments Due: 5 p.m. ET 10/11/17.

Docket Numbers: ER17-1718-002.

Applicants: Dynegy Dicks Creek, LLC.

Description: Tariff Amendment: Response to Second Deficiency Letter to be effective 8/1/2017.

Filed Date: 9/20/17.

Accession Number: 20170920-5176.

Comments Due: 5 p.m. ET 10/11/17.

Docket Numbers: ER17-1719-002.

Applicants: Dynegy Killen, LLC.

Description: Tariff Amendment: Response to Second Deficiency Letter to be effective 8/1/2017.

Filed Date: 9/20/17.

Accession Number: 20170920-5177.

Comments Due: 5 p.m. ET 10/11/17.

Docket Numbers: ER17-1720-002.

Applicants: Dynegy Miami Fort, LLC.

Description: Tariff Amendment: Response to Second Deficiency Letter to be effective 8/1/2017.

Filed Date: 9/20/17.

Accession Number: 20170920-5178.

Comments Due: 5 p.m. ET 10/11/17.

Docket Numbers: ER17-1840-000.

Applicants: Canton Mountain Wind, LLC.

Description: Fourth Supplement to June 15, 2017 Canton Mountain Wind, LLC tariff filing.

Filed Date: 9/20/17.

Accession Number: 20170920-5215.

Comments Due: 5 p.m. ET 10/2/17.

Docket Numbers: ER17-2523-000.

Applicants: Southwest Power Pool, Inc.

Description: § 205(d) Rate Filing: Revisions to Attachment Y to Add A Competitive Project Minimum Threshold to be effective 11/19/2017.

Filed Date: 9/20/17.

Accession Number: 20170920-5146.

Comments Due: 5 p.m. ET 10/11/17.

Docket Numbers: ER17-2524-000.

Applicants: Alabama Power Company.

Description: § 205(d) Rate Filing: Florida Power & Light Company Interconnection Contract Filing to be effective 8/15/2017.

Filed Date: 9/20/17.

Accession Number: 20170920-5187.

Comments Due: 5 p.m. ET 10/11/17.

Docket Numbers: ER17-2525-000.

Applicants: Georgia Power Company.

Description: § 205(d) Rate Filing: Florida Power & Light Company Interconnection Contract Filing to be effective 8/15/2017.

Filed Date: 9/20/17.

Accession Number: 20170920-5188.

Comments Due: 5 p.m. ET 10/11/17.

Docket Numbers: ER17-2526-000.

Applicants: Gulf Power Company.

Description: § 205(d) Rate Filing: Florida Power & Light Company Interconnection Contract Filing to be effective 8/15/2017.

Filed Date: 9/20/17.

Accession Number: 20170920-5189.

Comments Due: 5 p.m. ET 10/11/17.

Docket Numbers: ER17-2527-000.

Applicants: Mississippi Power Company.

Description: § 205(d) Rate Filing: Florida Power & Light Company Interconnection Contract Filing to be effective 8/15/2017.

Filed Date: 9/20/17.

Accession Number: 20170920-5190.

Comments Due: 5 p.m. ET 10/11/17.

Docket Numbers: ER17-2528-000.

Applicants: Lathrop Irrigation District.

Description: Petition for Limited Waiver of Tariff Provisions of Lathrop Irrigation District.

Filed Date: 9/20/17.

Accession Number: 20170920-5207.

Comments Due: 5 p.m. ET 10/11/17.

Docket Numbers: ER17-2529-000.

Applicants: Southwest Power Pool, Inc.

Description: § 205(d) Rate Filing: 2888R2 Arkansas Electric Cooperative Corp. NITSA and NOA to be effective 9/1/2017.

Filed Date: 9/21/17.

Accession Number: 20170921-5028.

Comments Due: 5 p.m. ET 10/12/17.

Docket Numbers: ER17-2529-001.

Applicants: Southwest Power Pool, Inc.

Description: Tariff Amendment: 2888R2 Arkansas Electric Cooperative Corp. NITSA and NOA) to be effective 9/1/2017.

Filed Date: 9/21/17.

Accession Number: 20170921-5097.

Comments Due: 5 p.m. ET 10/12/17.

Docket Numbers: ER17-2530-000.

Applicants: Midcontinent Independent System Operator, Inc. Ameren Illinois Company.

Description: § 205(d) Rate Filing: Ameren Illinois-Wabash Valley-EnerStar Switching Agreement to be effective 8/22/2017.

Filed Date: 9/21/17.

Accession Number: 20170921-5055.

Comments Due: 5 p.m. ET 10/12/17.

Docket Numbers: ER17-2531-000.

Applicants: PJM Interconnection, L.L.C.

Description: § 205(d) Rate Filing: Original Service Agreement No. 4794; Queue AC1-116 (WMPA) to be effective 8/22/2017.

Filed Date: 9/21/17.

Accession Number: 20170921-5068.

Comments Due: 5 p.m. ET 10/12/17.

Docket Numbers: ER17-2532-000.

Applicants: Massachusetts Electric Company.

Description: § 205(d) Rate Filing: 2017 Rate Update Filing for Massachusetts Electric Borderline Sales Agreement to be effective 8/1/2014.

Filed Date: 9/21/17.

Accession Number: 20170921-5079.

Comments Due: 5 p.m. ET 10/12/17.

Docket Numbers: ER17-2533-000.

Applicants: ISO New England Inc., New England Power Pool Participants Committee.

Description: § 205(d) Rate Filing: ISO-NE and NEPOOL—Clarifying Revisions to Force Majeure to be effective 11/21/2017.

Filed Date: 9/21/17.

Accession Number: 20170921-5094.

Comments Due: 5 p.m. ET 10/12/17.

Docket Numbers: ER17-2534-000.

Applicants: Arizona Public Service Company.

Description: § 205(d) Rate Filing: Service Agreement No. 300 to be effective 1/1/2017.

Filed Date: 9/21/17.

Accession Number: 20170921-5099.

Comments Due: 5 p.m. ET 10/12/17.

Docket Numbers: ER17-2535-000.

Applicants: Public Service Company of Colorado.

Description: § 205(d) Rate Filing: PSCo—PSCoES—LGIA—464—0.0.0 Refiling to be effective 9/22/2017.

Filed Date: 9/21/17.

Accession Number: 20170921-5109.

Comments Due: 5 p.m. ET 10/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2017.
Nathaniel J. Davis, Sr.,
Deputy Secretary.

[FR Doc. 2017-20668 Filed 9-26-17; 8:45 am]

BILLING CODE 6717-01-P